DEPARTMENT OF DEFENSE

Department of the Navy

[Docket ID: USN-2023-HQ-0007]

Submission for OMB Review; Comment Request

AGENCY: Department of the Navy (DON), Department of Defense (DoD).

ACTION: 30-Day information collection notice.

SUMMARY: The DoD has submitted to the Office of Management and Budget (OMB) for clearance the following proposal for collection of information under the provisions of the Paperwork Reduction Act.

DATES: Consideration will be given to all comments received by May 8, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: NAVSUP Enterprise Web Portal Vendor Registration and Modification Requests; OMB Control Number 0703-EPWP.

Type of Request: Existing collection in use without an OMB Control Number.

Naval Supply Systems Command (NAVSUP) Enterprise Web Registration

Number of Respondents: 200.

Responses per Respondent: 1.

Annual Responses: 200.

Average Burden per Response: 5 minutes.

Annual Burden Hours: 17.

NAVSUP Enterprise Web Modification Requests

Number of Respondents: 189.

Responses per Respondent: 67.

Annual Responses: 12,663.

Average Burden per Response: 15 minutes.

Annual Burden Hours: 3,166.

Total

Number of Respondents: 389.

Annual Responses: 12,863.

Annual Burden Hours: 3,183.

Needs and Uses: The NAVSUP Enterprise Web Portal is the combined Web Presence for the NAVSUP. NAVSUP Enterprise Web is used primarily by Military Service Members and DoD Civilian Employees. In limited circumstances, information is collected from members of the public for vendors based in the continental United States (CONUS) doing business with the Navy and Foreign National Employees at locations outside of the continental United States (OCONUS). Per DoD policy contained in DoD Instruction 8510.01 “Risk Management Framework for DoD Systems” and Navy policy from DON Chief Information Officer Memorandum of 20 May, 2014 “Implementation of the Risk Management Framework for DoD Information Technology,” NAVSUP is required to implement standard cybersecurity requirements and cyberspace operational risk management functions based on the National Institute of Standard Technology security controls. Access Control and Identification and Authorization controls require NAVSUP to collect information needed to identify users of NAVSUP Enterprise Web applications and ensure appropriate roles for use. The WorkFlow Pro Vendor application allows DON vendors, under a contract agreement, to submit their post award modification requests to NAVSUP Civilian or Military contracting officers. Foreign National employees OCONUS access the portal via their DoD standard Common Access Card (CAC) or by a User Token card. They must first register their CAC or User Token Card via an online form linked to a master repository maintained by NAVSUP and provide their name, work email address and phone number, Country of Citizenship, and organizational affiliation.

Affected Public: Business or other for-profit; individuals or households.

Frequency: As required.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Mr. Reginald Lucas.

Requests for copies of the information collection proposal should be sent to Mr. Lucas at whs.mc-alex.esd.mbx.dd-dod-information-collections@mail.mil.

Dated: April 3, 2024.
Aaron T. Siegel,
Alternate OSD Federal Register Liaison Officer, Department of Defense.

[FR Doc. 2024-07410 Filed 4-5-24; 8:45 am]

BILLING CODE 6001-FR-P